DEPARTMENT OF ENERGY

Federal Energy Regulatory Commission

Notice of Settlement Agreement Modification and Solicitation of Comments

March 10, 2005.

Please take notice that the following settlement agreement modification has been filed with the Commission and is available for public inspection. The filing includes a request to amend an associated decommissioning application to reflect the settlement agreement modification.

a. Type of Application: Modification of Settlement Agreement.

b. Project No.: P-2342-011.

c. Date filed: February 28, 2005.

d. Applicant: PacifiCorp.

e. Name of Project: Condit Hydroelectric Project.

f. Location: On the White Salmon River in Klickitat and Skamania Counties, Washington.

g. Applicant Contact: Jeff Lovinger, 825 NE. Multnomah, Suite 1500, Portland, Oregon 97232; (503) 230-7120.

h. FERC Contact: Nicholas Jayjack, (202) 502-6073; Nicholas.Jayjack@ferc.gov.

i. Deadline for filing comments: March 21, 2005. Reply comments due March 31, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

j. On October 29, 1999, PacifiCorp filed a settlement agreement, signed by 23 Federal and State agencies and non-governmental organizations, to decommission the Condit Hydroelectric Project commencing October 1, 2006. The 1999 settlement agreement, among other things, limits PacifiCorp's commitment to fund decommissioning to $17,150,000 (1999 dollars), of which a maximum of $2,000,000 would be for permitting and mitigation costs. Anticipating that permitting and mitigation costs will exceed $2,000,000, PacifiCorp signed a memorandum of agreement with the parties that modifies the 1999 settlement agreement to: (1) Delay the commencement of decommissioning to October 1, 2008; (2) increase PacifiCorp's commitment to fund decommissioning to $20,450,000 (1999 dollars); and (3) increase the maximum amount of permitting and mitigation costs to $5,300,000 (1999 dollars). By this notice, we are providing an opportunity to submit comments concerning the modified provisions of the settlement agreement.

k. A copy of the memorandum of agreement modifying the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E5-1151 Filed 3-15-05; 8:45 am]

BILLING CODE 6717-01-P